EVIRONMENTAL PROTECTION AGENCY

40 CFR Part 52

[PA200-4203; FRL-9314-6]

Approval and Promulgation of Air Quality Implementation Plans; Pennsylvania; Update to Materials Incorporated by Reference

AGENCY: Environmental Protection Agency (EPA).

ACTION: Final rule; administrative change.

SUMMARY: EPA is updating the materials submitted by Pennsylvania that are incorporated by reference (IBR) into the Pennsylvania State Implementation Plan (SIP). The regulations affected by this update have been previously submitted by the Pennsylvania Department of Environmental Protection (PADEP) and approved by EPA. This update affects the SIP materials that are available for public inspection at the National Archives and Records Administration (NARA), the Air and Radiation Docket and Information Center located at EPA Headquarters in Washington, DC, and the EPA Regional Office.

DATES: Effective Date: This action is effective July 5, 2011.

ADDRESSES: SIP materials which are incorporated by reference into 40 CFR part 52 are available for inspection at the following locations: Air Protection Division, U.S. Environmental Protection Agency, Region III, 1650 Arch Street, Philadelphia, Pennsylvania 19103; the Air and Radiation Docket and Information Center, U.S. Environmental Protection Agency, 1301 Constitution Avenue, NW., Room Number 3334, EPA West Building, Washington, DC 20460; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION:

I. Background

The SIP is a living document which the State revises as necessary to address its unique air pollution problems. Therefore, EPA from time to time must take action on SIP revisions containing new and/or revised regulations as being part of the SIP. On May 22, 1997 (62 FR 27968), EPA revised the procedures for incorporating by reference Federally-approved SIPs, as a result of consultations between EPA and the Office of the Federal Register (OFR). The description of the revised SIP document, IBR procedures and “Identification of plan” format are discussed in further detail in the May 22, 1997 Federal Register document. On February 25, 2005 (70 FR 9450), EPA published a document in the Federal Register beginning the new IBR procedure for Pennsylvania, including Philadelphia and Allegheny Counties. On January 3, 2007 (72 FR 200), and March 25, 2009 (74 FR 13014), EPA published updates to the IBR materials for Pennsylvania.

Since the publication of the last IBR update, EPA has approved the following regulatory changes to all sections of the following Pennsylvania and Allegheny County regulations:

A. Paragraph 52.2020(c)(1)—Pennsylvania DEP Regulations

1. Additions of the following regulations in 25 PA Code, article III:

a. Chapter 130 (Standards for Products), subchapter B (Consumer Products), sections 130.217 and 130.338.

b. Chapter 145 (Interstate Pollution Transport Reduction), subchapter A (General Provisions), section 145.8.

c. Chapter 145, subchapter D (CAIR NOX and SO2 Trading Programs—General Provisions), sections 145.201 through 145.205, 145.211 through 145.213, and 145.221 through 145.223.

2. Revisions to the following regulations in 25 PA Code, Article III:

a. Chapter 121 (General Provisions), section 121.1 (Definitions).

b. Chapter 129 (Standards for Sources, Additional NOX requirements), sections 129.201, 129.202, and 129.204.

c. Chapter 130 (Standards for Products), subchapter B (Consumer Products), sections 130.201, 130.202, 130.211, 130.213, 130.214, 130.215, 130.331, 130.332, 130.334, 130.335, 130.371, 130.372, 130.373, 130.411, 130.412, 130.414, 130.452, 130.453, 130.454, 130.455, 130.457, 130.458, 130.460, 130.462, 130.465, 130.471.

d. Chapter 130, subchapter C (Architectural and Industrial Maintenance Coatings), section 130.602.

e. Chapter 145 (Interstate Pollution Transport Reduction), subchapter B (Emissions of NOX From Stationary Internal Combustion Engines), section 145.113.

f. Chapter 145, subchapter C (Emissions of NOX From Cement Manufacturing), section 145.143.

B. Paragraph 52.2020(c)(2)—Allegheny County Health Department (ACHD) Regulations

1. Additions of the following regulations in Article XXI:

a. Part A (General), section 2101.20 (definitions added).

b. Part E (Source Emission and Operating Standards), subpart 7 (Miscellaneous VOC Sources), sections 2105.77, 2105.78, and 2105.79.

2. Revisions to the following regulations in Article XXI:

a. Part E (Source Emission and Operating Standards), subpart 1 (VOC Sources), section 2105.10.

b. Part E, subpart 2 (Slag, Coke, and Miscellaneous Sulfur Sources), section 2105.21.

c. Part G (Methods), section 2107.11.

d. Part H (Reporting, Testing & Monitoring), section 2108.03.

II. EPA Action

In this action, EPA is doing the following:

A. Announcing the Update to the IBR Material as of April 1, 2011

B. In Paragraph 40 CFR 52.2020(c)(1)

1. Correcting typographical errors in Title 25, the first entry of Section 123.22 (“Title/subject” column) and Section 129.93 (“State citation” column).

2. Correcting typographical errors in Title 67, Section 177.22 (“Title/subject” column) and the heading entitled “Registration Recall Procedure for Violation of §§ 177.301-177.305 (Relating To On-Road Testing).”

C. In Paragraph 52.2020(c)(2)

1. Adding text in the “Additional explanation/§ 52.2063 citation” columns to help distinguish the four entries for article XXI, part A, section 2101.20 (Definitions).

2. Correcting a typographical error in the title heading for Article XXI, Part E, Subpart 2.

3. Revising the text in the “Additional explanation/§ 52.2063 citation” column for Regulation 2105.21.

D. In Paragraph 52.2020(d)(1)

1. Revising the heading in the second column from “Permit No.” to “Permit Number.”

2. Correcting the Federal Register citation in the “EPA approval date” column for Tarkett, Incorporated and Hacros Pigments, Inc.

E. In Paragraph 52.2020(e)(1)

1. Removing the words “OFR error” found in the “Name of non-regulatory SIP revision” and “Applicable geographic area” columns for the entry “Continuous Source Testing Manual.”

2. Correcting the date format in the “EPA approval date” column for the entry “Carbon Monoxide Maintenance Plan—Philadelphia County.”

3. Correcting the date format in the “State submittal date” column for the entry “8-Hour Ozone Maintenance Plan and 2002 Base Year Emissions Inventory—Tioga County.”

F. In Paragraph 52.2020(e)(2)

1. Revising the heading in the second column from “Permit No.” to “Permit Number.”

2. Correcting the date format in the “EPA approval date” column for the following entries: USX/US Steel Group—Fairless Hills, Rockwell Heavy Vehicle, Inc.—New Castle Forge Plant, and Mercersburg Tanning Co.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by removing outdated citations and incorrect table entries.

III. Statutory and Executive Order Reviews

A. General Requirements

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the CAA pertaining to petitions for judicial review are not applicable to this action. Prior EPA rulemaking actions for each individual component of the Pennsylvania SIP compilations had previously afforded interested parties the opportunity to file a petition for judicial review in the United States Court of Appeals for the appropriate circuit within 60 days of such rulemaking action. Thus, EPA sees no need in this action to reopen the 60-day period for filing such petitions for judicial review for this “Identification of plan” update action for Pennsylvania.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: May 24, 2011.
W. C. Early,
Acting, Regional Administrator, Region III.

40 CFR part 52 is amended as follows:

PART 52—[AMENDED]

1. The authority for citation for part 52 continues to read as follows:

Authority: 42 U.S.C. 7401 et seq.

2. Section 52.2020 is amended by:

a. Revising paragraph (b).

b. In paragraph (c)(1), revising the entries for Sections 123.22 (first entry), 129.93, 177.22, and the heading above §§ 177.301-177.305.

c. In paragraph (c)(2), revising the four entries for Article XXI, Section 2101.20 and the entry for Article XXI, Section 2105.21.

d. In paragraph (d)(1), revising the title entry for the second column of the table and the entries for Tarkett, Incorporated and Hacros Pigments, Inc.

e. In paragraph (e)(1), revising the entries for Carbon Monoxide Maintenance Plan—Philadelphia County, Continuous Source Testing Manual, and 8-Hour Ozone Maintenance Plan and 2002 Base Year Emissions Inventory—Tioga County.

f. In paragraph (e)(2), revising the entries for USX Corp./US Steel Group—Fairless Hills. Rockwell Heavy Vehicle, Inc.—New Castle Forge Plant, and Mercersburg Tanning Co.

The amendments read as follows:

Subpart NN—Pennsylvania

§ 52.2020 Identification of plan.

* * * * *

(b) Incorporation by reference.

(1) Material listed as incorporated by reference in paragraphs (c) and (d) of this section was approved for incorporation by reference by the Director of the Federal Register in accordance with 5 U.S.C. 552(a) and 1 CFR part 51. Material is incorporated as it exists on the date of the approval, and notice of any change in the material will be published in the Federal Register. Entries in paragraphs (c) and (d) of this section with EPA approval dates on or after April 1, 2011 will be incorporated by reference in the next update to the SIP compilation.

(2)(i) EPA Region III certifies that the following rules and regulations provided by EPA at the addresses in paragraph (b)(3) of this section are an exact duplicate of the officially promulgated State rules/regulations which have been approved as part of the State implementation plan as of April 1, 2011:

(A) Materials in Notebook “40 CFR 52.2020(c)(1)—1. PA Department of Environmental Protection (PA DEP); 2. PA Department of Transportation (PA DOT).”

(B) Materials in Notebook “1. 40 CFR 52.2020(c)(2)—Allegheny County Health Department (ACHD); 2. 40 CFR 52.2020(c)(3)—Philadelphia Air Management Services (AMS).”

(ii) EPA Region III certifies that the following source-specific requirements provided by EPA at the addresses in paragraph (b)(3) of this section are an exact duplicate of the officially promulgated State source-specific requirements which have been approved as part of the State implementation plan as of November 1, 2006. No additional revisions were made between November 1, 2006 and April 1, 2011:

(A) [Reserved.]

(B) Materials in Notebook “40 CFR 52.2020(d)(1)—Source-specific Requirements—Volume 1, Part 1.”

(C) Materials in Notebook “40 CFR 52.2020(d)(1)—Source-specific Requirements—Volume 1, Part 2.”

(D) Materials in Notebook “40 CFR 52.2020(d)(1)—Source-specific Requirements—Volume 2, Part 1.”

(E) Materials in Notebook “40 CFR 52.2020(d)(1)—Source-specific Requirements—Volume 2, Part 2.”

(F) Materials in Notebook “40 CFR 52.2020(d)(1)—Source-specific Requirements—Volume 3.”

(G) Materials in Notebook “40 CFR 52.2020(d)(1)—Source-specific Requirements—Volume 4.”

(H) Materials in Notebook “40 CFR 52.2020(d)(1)—Source-specific Requirements—Volume 5.”

(I) Materials in Notebook “40 CFR 52.2020(d)(2)-(d)(4)—Source-specific Requirements.”

(iii) EPA Region III certifies that the materials in Notebook “40 CFR 52.2020(d)(1)—Source-specific Requirements—Volume 6” provided by EPA at the addresses in paragraph (b)(3) of this section are an exact duplicate of the officially promulgated State source-specific requirements which have been approved as part of the State implementation plan as of November 1, 2008. No additional revisions were made between November 1, 2008 and April 1, 2011:

(3) Copies of the materials incorporated by reference may be inspected at the EPA Region III Office at 1650 Arch Street, Philadelphia, PA 19103. For further information, call (215) 814-2108; the EPA, Air and Radiation Docket and Information Center, Room Number 3334, EPA West Building, 1301 Constitution Avenue, NW., Washington, DC 20460. For further information, call (202) 566-1742; or at the National Archives and Records Administration (NARA). For information on the availability of this material at NARA, call 202-741-6030, or go to: http://www.archives.gov/federal_register/code_of_federal_regulations/ibr_locations.html.

(c) EPA-Approved Regulations

(1) * * *

State citation | Title/subject | State effective date | EPA approval date | Additional explanation/§ 52.2063 citation
| Title 25. Environmental Protection Article III. Air Resources
* * * * * * *
Chapter 123. Standards for Contaminants
* * * * * * *
Sulfur Compound Emissions
* * * * * * *
Section 123.22 | Combustion units [General provisions—air basins and non-air basins] | 3/20/72 | 5/31/72, 37 FR 10842 | (c)(1).
* * * * * * *
Chapter 129. Standards for Sources
* * * * * * *
Stationary Sources of NOX and VOCs
* * * * * * *
Section 129.93 [Except for 129.93(c)(6) &(7)] | Presumptive RACT emission limitations | 4/23/94 | 3/23/98, 63 FR 13789 | (c)(129).
* * * * * * *
Title 67. Transportation
Part I. Department of Transportation
Subpart A. Vehicle Code Provisions
Article VII. Vehicle Characteristics
* * * * * * *
Chapter 177. Enhanced Emission Inspection Program
* * * * * * *
Subchapter A. General Provisions
* * * * * * *
Implementation of Emission Inspection Program
Section 177.22 | Commencement of inspections | 11/22/03 | 10/6/05, 70 FR 58313 | Retitled and revised.
* * * * * * *
Subchapter F. Schedule of Penalties and Hearing Procedure
* * * * * * *
Registration Recall Procedure for Violation of §§ 177.301-177.305 (Relating to On-Road Testing)
* * * * * *

(2) * * *

Article XX or XXI citation | Title/subject | State effective date | EPA approval date | Additional explanation/§ 52.2063 citation
Part A. General
* * * * * *
2101.20 | Definitions | 10/20/95 | 11/14/02, 67 FR 68935 | (c)(192); See Part I of the IBR document.
2101.20 | Definitions related to gasoline volatility | 5/15/98, 9/1/99 | 4/17/01, 66 FR 19724 | (c)(151); See Part I of the IBR document.
2101.20 | Definitions | 7/10/03 | 6/24/05, 70 FR 36511 | See Part II of the IBR document.
2101.20 | Definitions | 5/24/10 | 12/28/10, 75 FR 81555 | Addition of four new definitions: Exterior panels, interior panels, flat wood panel coating, and tileboard. See Part III of the IBR document.
* * * * * *
Part E. Source Emission and Operating Standards
* * * * * *
Subpart 2. Slag, Coke, and Miscellaneous Sulfur Sources
2105.21 | Coke Ovens and Coke Oven Gas | 4/1/07 | 7/13/09, 74 FR 33329 | Revision to paragraph 2105.21.f (Combustion Stacks).
* * * * * *

(3) * * *

(d) EPA-approved source-specific requirements

(1) * * *

Name of source | Permit No. | County | State effective date | EPA approval date | Additional explanation/§ 52.2063 citation
For exceptions, see the applicable paragraphs in 40 CFR 52.2063(c)
* * * * * *
Tarkett, Incorporated | OP-39-0002 | Lehigh | 5/31/95 | 8/6/03, 68 FR 46484 | (c)(208)(i)(B)(1).
Hacros Pigments, Inc. | OP-48-0018 | Northampton | 7/31/96 | 8/6/03, 68 FR 46484 | (c)(208)(i)(B)(2).
* * * * * *

* * * * *

(e) EPA-approved nonregulatory and quasi-regulatory material

(1) * * *

Name of non-regulatory SIP revision | Applicable geographic area | State submittal date | EPA approval date | Additional explanation
* * * * * * *
Carbon Monoxide Maintenance Plan | Philadelphia County | 9/8/95, 10/30/95 | 1/30/96, 61 FR 2982 | 52.2063(c)(105).
|  | 9/3/04 | 4/04/05, 70 FR 16958 | Revised Carbon Monoxide Maintenance Plan Base Year Emissions Inventory using MOBILE6.
|  | 3/19/07 | 10/5/07, 72 FR 56911 | Conversion of the Carbon Monoxide Maintenance Plan to a Limited Maintenance Plan Option.
* * * * * * *
Continuous Source Testing Manual | Statewide | 11/26/94 | 7/30/96, 61 FR 39597 | 52.2063(c)(110) (i)(D); cross-referenced in Section 139.5.
* * * * * * *
8-Hour Ozone Maintenance Plan and 2002 Base Year Emissions Inventory | Tioga County | 9/28/06, 11/14/06 | 7/6/07, 72 FR 36892 |
* * * * * * *

(2) * * *

Name of source | Permit No. | County | State submittal date | EPA approval date | Additional explanation/§ 52.2063 citation
USX Corp./US Steel Group-Fairless Hills | 09-0006 | Bucks | 8/11/95, 11/15/95 | 4/09/96, 61 FR 15709 | 52.2036(b); 52.2037(c); source shutdown date is 8/1/91.
* * * * * * *
Rockwell Heavy Vehicle, Inc.-New Castle Forge Plant | 37-065 | Lawrence | 4/8/98 | 4/16/99, 64 FR 18818 | 52.2036(k); source shutdown date is 4/1/93.
* * * * * * *
Mercersburg Tanning Co. | 28-2008 | Franklin | 4/26/95 | 3/12/97, 62 FR 11079 | 52.2037(h); 52.2063(c)(114)(i)(A)(3) & (ii)(A).
* * * * * * *

[FR Doc. 2011-16636 Filed 7-1-11; 8:45 am]

BILLING CODE 6560-50-P